DEPARTMENT OF ENERGY

Federal Energy Regulatory Commission

[Docket No. CP14-121-000]

Strom, Inc.; Notice of Petition for Declaratory Order

Take notice that on March 24, 2014, Strom, Inc. pursuant to section 207(a)(2) of the Federal Energy Regulatory Commission's (Commission) Rules of Practice and Procedure, 18 CFR 385.207 (2013) filed a Petition for Declaratory Order seeking to utilize a new portable LNG liquefication technology (“LNG/B”) to convert Natural Gas purchased from FERC regulated companies. The LNG will be utilized by U.S. corporations and/or exported pursuant to Strom's export applications submitted to the U.S. Department of Energy-Fossil Fuel Section, and in accordance with section 3 of the NGA. Strom contends that since this is a portable system and not a LNG terminal as defined by the NGA and not a facility as defined by law, that no FERC permit is required. Strom contends that any permit should be issued by the State Commission in Florida and/or local jurisdictions. Strom also contends that it is a third party marketer of a product regulated by FERC under the NGA.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on April 18, 2014.

Dated: March 27, 2014.
Kimberly D. Bose,
Secretary.

[FR Doc. 2014-07495 Filed 4-3-14; 8:45 am]

BILLING CODE 6717-01-P